DEPARTMENT OF JUSTICE

Antitrust Division

Notice Pursuant to the National Cooperative Research and Production Act of 1993—Association of Records Managers and Administrators

Notice is hereby given that, on September 15, 2004, pursuant to section 6(a) of the National Cooperative Research and Production Act of 1993, 15 U.S.C. 4301 et seq. (“the Act”), Association of Records Managers and Administrators (“ARMA International”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Association of Records Managers and Administrators, Lenexa, KS. The nature and scope of ARMA International's standards development activities are: standards and best practices for the implementation of policies, systems and procedures that manage recorded information in a variety of formats throughout the life cycle. These standards promote efficiency and cost savings by reducing wasted effort, ensuring consistency of procedures over time and reducing risk exposure.

Dorothy B. Fountain,
Deputy Director of Operations, Antitrust Division.

[FR Doc. 04-23514 Filed 10-20-04; 8:45 am]

BILLING CODE 4410-11-M